DEPARTMENT OF COMMERCE

National Oceanic and Atmospheric Administration

RIN 0648-XD462

Takes of Marine Mammals Incidental to Specified Activities; U.S. Navy Training Activities in the Gulf of Alaska Temporary Maritime Activities Area

AGENCY: National Marine Fisheries Service (NMFS), National Oceanic and Atmospheric Administration (NOAA), Commerce.

ACTION: Notice; receipt of application for letter of authorization; request for comments and information.

SUMMARY: NMFS has received a request from the U.S. Navy (Navy) for authorization to take marine mammals incidental to the training activities conducted in the Gulf of Alaska Temporary Maritime Activities Area (GOA TMAA) from April 2016 through April 2021. Pursuant to the Marine Mammal Protection Act (MMPA), NMFS is announcing our receipt of the Navy's request for the development and implementation of regulations governing the incidental taking of marine mammals and inviting information, suggestions, and comments on the Navy's application and request.

DATES: Comments and information must be received no later than October 6, 2014.

ADDRESSES: Comments on the application should be addressed to Jolie Harrison, Chief, Permits and Conservation Division, Office of Protected Resources, National Marine Fisheries Service, 1315 East-West Highway, Silver Spring, MD 20910-3225. The mailbox address for providing email comments is ITP.Fiorentino@noaa.gov. NMFS is not responsible for email comments sent to addresses other than the one provided here. Comments sent via email, including all attachments, must not exceed a 10-megabyte file size.

Instructions: All comments received are a part of the public record and will generally be posted to http://www.nmfs.noaa.gov/pr/permits/incidental.htm without change. All Personal Identifying Information (for example, name, address, etc.) voluntarily submitted by the commenter may be publicly accessible. Do not submit Confidential Business Information or otherwise sensitive or protected information.

A copy of the Navy's application may be obtained by visiting the Internet at: http://www.nmfs.noaa.gov/pr/permits/incidental.htm. The Navy's Draft Supplemental Environmental Impact Statement (DSEIS) for the GOA TMAA was made available to the public on August 23, 2014. A 60-day public comment period is open through October 22, 2014. Documents cited in this notice may also be viewed, by appointment, during regular business hours, at the aforementioned address.

FOR FURTHER INFORMATION CONTACT: John Fiorentino, Office of Protected Resources, NMFS, (301) 427-8477.

SUPPLEMENTARY INFORMATION:

Background

Sections 101(a)(5)(A) and (D) of the MMPA (16 U.S.C. 1361 et seq.) direct the Secretary of Commerce to allow, upon request, the incidental, but not intentional, taking of small numbers of marine mammals by United States citizens who engage in a specified activity (other than commercial fishing) within a specific geographical region if certain findings are made and either regulations are issued or, if the taking is limited to harassment, a notice of a proposed authorization is provided to the public for review.

Authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth. NMFS has defined “negligible impact” in 50 CFR 216.103 as “. . . an impact resulting from the specified activity that cannot be reasonably expected to, and is not reasonably likely to, adversely affect the species or stock through effects on annual rates of recruitment or survival.”

With respect to military readiness activities, the MMPA defines “harassment” as: “(i) any act that injures or has the significant potential to injure a marine mammal stock in the wild [Level A Harassment]; or (ii) any act that disturbs or is likely to disturb a marine mammal or marine mammal stock in the wild by causing disruption of natural behavioral patterns, including, but not limited to, migration, surfacing, nursing, breeding, feeding, or sheltering, to a point where such behavioral patterns are abandoned or significantly altered [Level B Harassment].”

Summary of Request

On July 28, 2014, NMFS received an application from the Navy requesting a Letter of Authorization (LOA) for the take of 19 species of marine mammals incidental to Navy training activities to be conducted in the Gulf of Alaska Temporary Maritime Activities Area (GOA TMAA) over 5 years. The Navy requests a 5-year LOA for training activities to be conducted from 2016 through 2021. The GOA TMAA is a polygon roughly the shape of a 300 nm by 150 nm rectangle oriented northwest to southeast in the long direction (see Figure 1-1 of the Navy's application for a map of the GOA TMAA). The activities conducted within the GOA TMAA are classified as military readiness activities. The Navy states that these activities may expose some of the marine mammals present within the GOA TMAA to sound from underwater acoustic sources and explosives. The Navy requests authorization to take 19 marine mammal species by Level B (behavioral) harassment; one of those marine mammal species (Dall's porpoise) may be taken by Level A (injury) harassment.

Description of the Specified Activity

In the application submitted to NMFS, the Navy requests authorization to take marine mammals incidental to conducting anti-surface warfare and anti-submarine warfare training activities. Detailed descriptions of these activities, including duration, location, and equipment involved, are provided in the Navy's application. The Navy has also prepared a Draft Supplemental Environmental Impact Statement (DSEIS) analyzing the effects on the human environment of implementing their preferred alternative (among others).

Information Solicited

Interested persons may submit information, suggestions, and comments concerning the Navy's request (see ADDRESSES). All input related to the Navy's GOA TMAA request and NMFS' role in governing the incidental taking of marine mammals will be considered by NMFS when developing, if appropriate, the most effective regulations governing the issuance of a Letter of Authorization.

Dated: August 29, 2014.
Donna S. Wieting,
Director, Office of Protected Resources, National Marine Fisheries Service.

[FR Doc. 2014-21141 Filed 9-4-14; 8:45 am]

BILLING CODE 3510-22-P